DEPARTMENT OF ENERGY

Federal Energy Regulatory Commission

[Docket No. RP03-627-000]

Columbia Gas Transmission Corporation; Notice of Proposed Changes in FERC Gas Tariff

October 2, 2003.

Take notice that on September 30, 2003, Columbia Gas Transmission Corporation (Columbia) tendered for filing as part of its FERC Gas Tariff, Second Revised the following revised tariff sheets Second Revised Volume No. 1, the following revised tariff sheets bearing a proposed effective date of November 1, 2003:

Sixty-fifth Revised Sheet No. 25

Sixty-fifth Revised Sheet No. 26

Sixty-fifth Revised Sheet No. 27

Twenty-ninth Revised Sheet No. 30A

Columbia states that this filing is being submitted pursuant to Stipulation I, Article I, Section E, True-up Mechanism, of the Settlement (Settlement) in Docket No. RP95-408, et al. Pursuant to the true-up mechanism, Columbia is required to true-up its collections from the Settlement Component for twelve-month periods commencing November 1, 1996. In accordance with the Settlement, the true-up component of the Settlement Component is to be removed effective November 1 of each year. Columbia states that the instant filing is being made to remove such true-up component from the currently effective Settlement Component effective November 1, 2003.

Columbia states that copies of its filing have been mailed to all firm customers, interruptible customers, and affected state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Comment Date: October 14, 2003.

Magalie R. Salas,
Secretary.

[FR Doc. E3-00028 Filed 10-8-03; 8:45 am]

BILLING CODE 6717-01-P